ENVIRONMENTAL PROTECTION AGENCY

[OW-2003-0026, FRL-7501-4]

Agency Information Collection Activities: Proposed Collection; Comment Request; National Water Quality Inventory Reports (Clean Water Act Sections 305(b), 303(d), 314(a), and 106(e))

AGENCY: Environmental Protection Agency

ACTION: Notice.

SUMMARY: In compliance with the Paperwork Reduction Act (44 U.S.C. 3501 et seq.), this document announces that EPA is planning to submit the following continuing Information Collection Request (ICR) to the Office of Management and Budget (OMB): National Water Quality Inventory Reports (Clean Water Act Sections 305(b), 303(d), 314(a), and 106(e)); EPA ICR Number 1560.07, OMB Control Number 2040-0071, expiring on July 31, 2003. Before submitting the ICR to OMB for review and approval, EPA is soliciting comments on specific aspects of the proposed information collection as described below.

DATES: Comments must be submitted on or before July 21, 2003.

ADDRESSES: Follow the detailed instructions in SUPPLEMENTARY INFORMATION.

FOR FURTHER INFORMATION CONTACT: John Wilson, Assessment and Watershed Protection Division, Office of Water, Mail Code: 4503T, Environmental Protection Agency, 1200 Pennsylvania Ave., NW., Washington, DC 20460; telephone number: 202-566-2385; fax number: 202-566-1331; e-mail address: Wilson.John@epa.gov.

SUPPLEMENTARY INFORMATION: EPA has established a public docket for this ICR under Docket ID number OW-2003-0026, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA and OMB within 60 days of this notice, and according to the following detailed instructions: Submit your comments to EPA online using EDOCKET (our preferred method), by e-mail to ow-docket@epa.gov, or by mail to: EPA Docket Center, Environmental Protection Agency, Water Docket, Mail Code 4101T, 1200 Pennsylvania Ave., NW., Washington, DC 20460.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are States, Territories and Tribes with Clean Water Act (CWA) responsibilities.

Title: National Water Quality Inventory Reports (Clean Water Act Sections 305(b), 303(d), 314(a), and 106(e)). (OMB Control Number 2040-0071; EPA ICR Number 1560.07 expiring 07/31/2003.

Abstract: Section 303(d) of the Clean Water Act requires States to identify and rank waters which cannot meet water quality standards (WQS) following the implementation of technology-based controls. Under section 303(d), States are also required to establish total maximum daily loads (TMDLs) for listed waters not meeting standards as a result of pollutant discharges. In developing the section 303(d) lists, States are required to consider various sources of water quality related data and information, including the section 305(b) State water quality reports. The section 305(b) reports contain information on the extent of water quality degradation, the pollutants and sources affecting water quality, and State progress in controlling water pollution.

EPA's Assessment and Watershed Protection Division (AWPD) works with its Regional counterparts to review and approve or disapprove State section 303(d) lists and TMDLs from 56 respondents (the 50 States, the District of Columbia, and the five Territories). Section 303(d) specifically requires States to develop lists and TMDLs “from time to time” and EPA to review and approve or disapprove the lists and the TMDLs. EPA also collects State 305(b) reports from 59 respondents (the 50 States, the District of Columbia, five Territories, and 3 River Basin commissions).

This announcement includes the reapproval of current, ongoing activities related to 305(b) and 303(d) reporting and TMDL development for the period of August 1, 2003 through July 31, 2006.During the period covered by this ICR renewal, respondents will: complete their 2004 305(b) reports and 2004 303(d) lists; complete their 2006 305(b) reports and 2006 303(d) lists; transmit annual electronic updates of their 305(b) databases in 2003 through 2006; and continue to develop TMDLs according to their established schedules. EPA will prepare two biennial Reports to Congress: one in 2003 and one in 2005, and EPA will review TMDL submissions from respondents.

The respondent community for 305(b) reporting consists of 50 States, the District of Columbia, 5 Territories (Puerto Rico, the Virgin Islands, Guam, American Samoa, and the Northern Mariana Islands), and 3 River Basin Commissions. The Ohio River Valley Sanitation Commission, the Delaware River Basin Commission, and the Interstate Sanitation Commission have jurisdiction over basins that lie in multiple States. Indian Tribes are exempt from the 305(b) reporting requirement, but some Tribes choose to participate as a way of presenting assessments and water quality issues to the public and Congress. One Tribe or Tribal Group prepared 305(b) reports in 1996 and 1997. However, since Tribal 305(b) reporting is a voluntary effort, it is not included in the burden estimates for this ICR.

The respondent community for 303(d) activities consists of 50 States, the District of Columbia, and 5 Territories (Puerto Rico, the Virgin Islands, Guam, American Samoa, and the Northern Mariana Islands). Although Indian Tribes are not exempt from 303(d) requirements, there is not a process currently in place to designate them for this purpose. Further, very few Tribes have established water quality standards, and EPA is currently in the process of preparing standards where they are needed. Therefore, we assume that there would be no burden to Indian Tribes over the period covered by this ICR for 303(d) activities.

The burden of specific activities that States undertake as part of their 305(b) and 303(d) programs are derived from an ongoing project among EPA, States and other interested stakeholders to develop a tool for estimating the States' resource needs for State water quality management programs. This project has developed the State Water Quality Management Workload Model (SWQMWM), which estimates and sums the workload involved in more than one hundred activities or tasks comprising a State water quality management program. Over twenty States have contributed information about their activities that became the basis for the model. According to the SWQMWM, the States will carry out the following activities or tasks to meet the 305(b) and 303(d) reporting requirements: watershed characterization; modeling and analysis; development of a TMDL document for public review; public outreach; formal public participation; tracking; planning; legal support; etc. In general, respondents have conducted each of these reporting and record keeping activities for past 305(b) and 303(d) reporting cycles and thus have staff and procedures in place to continue their 305(b) and 303(d) reporting programs. The burden associated with these tasks is estimated in this ICR to include the total number of TMDLs that may be submitted during the period covered by this ICR.

The biennial frequency of the collection is mandated by section 305(b)(1) of the CWA. Section 305(b) originally required respondents to submit water quality reports on an annual basis. In 1977, the annual requirement was amended to a biennial requirement in the CWA. EPA has determined that abbreviated reporting for hard-copy 305(b) reports, combined with annual electronic reporting using respondent databases, will meet the CWA reporting requirements while reducing burden to respondents. The biennial period with annual electronic reporting ensures that information needed for analysis and water program decisions is reasonably current, yet abbreviated reporting requirements provides respondents with sufficient time to prepare the reports.

An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

For current 305(b) and 303(d) reporting activities, the primary source we use in estimating burden for tasks to be performed by States is the State Water Quality Management Workload Model (SWQMWM), which estimates and sums the workload involved in more than one hundred activities or tasks comprising a State water quality management program.

The average annual burden per respondent for current 305(b) (59 respondents) and 303(d)(56 respondents) reporting activities is 6,491 hours and the total annual burden to all respondents is 372,403 hours. The table below displays a summary of the burden estimates.

Average of Annual Burden for 305(b) and 303(d) Reporting Activities
Activity | Number of respondents | Total annual burden
1. Review regs and guidance for 305(b) & 303(d) | 59 | 7,434
2. Plan and coordinate data acquisition and compile and screen data for assessments | 59 | 65,490
3. Development and submission of complete 305(b) report and response to EPA comments | 59 | 83,013
4. Develop, review and update 303(d) listing and de-listing methodology | 56 | 46,536
5. Prepare 303(d) list (includes identifying waters, setting priorities, and schedules) | 56 | 123,648
6. Required public outreach for 303(d) list | 56 | 14,840
7. Submission of 303(d) list to EPA and response to EPA comments | 56 | 12,208
8. Prepare annual electronic updates | 59 | 19,234
9. Implement enhanced benefit cost of WQS | 59 | 40,710
Total |  | 413,113

The additional burden for States to assess the costs and benefits of achieving water quality standards depends on the level of detail and sophistication that the States choose to provide as well as factors such as the number of impaired waters in the State, the State's diversity of water resources, and the intensity of use of those resources. The estimate of the burden associated with the enhanced benefit cost analysis, resulting in an average increase in State burden of 690 hours annually.

We use a separate analysis to estimate the burden associated with current TMDL development. Based on estimates of the number of TMDLs per year (4,000), the total average current burden associated with developing TMDLs under the current 303(d) program is estimated to be 59,409 hours per respondent, and the total annual burden for all 56 respondents is estimated to be 3,326,904 hours.

To estimate respondent costs, we applied an average fully loaded cost per hour to the burden estimates. This fully loaded hourly labor rate represents the total cost for obtaining an hour's worth of work, and includes: direct salary paid, paid or accrued vacation, paid or accrued sick leave, cost of other fringe benefits (e.g., health, pension, etc.), general training, indirect expenses such as professional support (e.g., clerical, accounting, supervisory, etc.), office space, utilities, telephone service, equipment (e.g., fax machines, basic computing needs such as hardware and software, etc.), etc. The average annual cost to each respondent for current 305(b) and 303(d) reporting (including the enhanced benefit cost activities) is estimated to be $298,227. The total annual costs imposed on all 59 respondents is estimated to be $17,156,583. Average annual respondent costs for current TMDL development is estimated at $2,467,256 per respondent and $138,166,323 for all 56 respondents.

Agency burden estimates are based on EPA's prior experience in developing 305(b) and 303(d) guidance, preparing the Report to Congress, providing technical support to respondents, and reviewing and approving/disapproving 303(d) lists and TMDL submissions. The hourly cost estimates were calculated for a technical federal position, Grade 10 Step 7 effective as of January 2003 ($22.49 per hour). The total costs are based upon an overhead rate of 110 percent. The average annual Agency burden for 305(b) and 303(d) reporting activities is estimated at 9,089 hours at a cost of $456,774. The cost of the Agency's additional burden to develop new guidance required by States to improve their estimates of the benefits and costs of achieving WQS is estimated at approximately $300,000 which would be incurred during 2004 and 2005. Over the 3-year period of this ICR, the annual cost would be $100,000 which translates into a burden of 2,117 hours annually. The annual average Agency burden and costs for TMDL review is 11,200 hours and $528,976.

Respondent Total

Annual Burden: 3,740,017 hours per year.

Annual Costs: $155,322,906 per year.

Agency Total

Annual Burden: 22,406 hours per year.

Annual Costs: $1,085,750 per year.

Dated: May 15, 2003.
Diane C. Regas,
Director, Office of Wetlands, Oceans and Watersheds.

[FR Doc. 03-12759 Filed 5-20-03; 8:45 am]

BILLING CODE 6560-50-P